DEPARTMENT OF STATE

[Public Notice: 12915]

Advisory Committee on International Law

ACTION: Notice of open meeting.

SUMMARY: Meeting of the Department of State's Advisory Committee on International Law.

DATES: A meeting of the Department of State's Advisory Committee on International Law (“ACIL”) will take place on February 12, 2026, from 10:00 a.m. to 3:00 p.m.

ADDRESSES: The George Washington University Law School, Michael K. Young Faculty Conference Center, 716 20th Street NW, Fifth Floor, Washington, DC. An option to join virtually will also be available.

FOR FURTHER INFORMATION CONTACT: Members of the public who wish to attend should contact the Office of the Legal Adviser by February 4, 2026, at rogerssa2@state.gov or (771) 205-4995 and provide their name, professional affiliation (if any), email address, and phone number, along with any request for reasonable accommodation.

SUPPLEMENTARY INFORMATION: Legal Adviser Reed D. Rubinstein will chair the meeting, which will be open to the public up to the capacity of the meeting room. Priority for in-person seating will be given to members of the Advisory Committee, and remaining seating will be reserved based upon when persons contact the Office of the Legal Adviser. Individuals who wish to attend virtually may request a link to the virtual meeting platform. Attendees who require reasonable accommodation should make their requests by February 6, 2026. Requests received after that date will be considered but might not be possible to accommodate. The meeting will include discussions on international law topics. These topics include: (1) how international law intersects with artificial intelligence and can be used to advance America's Artificial Intelligence Action Plan; and (2) how international law intersects with burgeoning commercial activities in outer space.

Authority: 5 U.S.C. 1009 and 41 CFR 102-3.150.

Shana A. Rogers,
Attorney-Adviser, Office of the Legal Adviser, Department of State.

[FR Doc. 2026-01415 Filed 1-23-26; 8:45 am]

BILLING CODE 4710-08-P